ENVIRONMENTAL PROTECTION AGENCY

[FRL-8250-5]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The document may be located by date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the 40 CFR part 63 NESHAP and section 111(d) of the Clean Air Act (CAA) regulations contain no specific regulatory provision that sources may request applicability determinations, EPA does respond to written inquiries regarding applicability for the 40 CFR part 63 and section 111(d) of the CAA programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 63 such documents added to the ADI on November 10, 2006. The subject, author, recipient, date and header of each letter and memorandum are listed in this notice, as well as a brief abstract of the letter or memorandum. Complete copies of these documents may be obtained from the ADI through the OECA Web site at: http://www.epa.gov/compliance/monitoring/programs/caa/adi.html.

The following table identifies the database control number for each document posted on the ADI database system on November 10, 2006; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents.

Control | Category | Subpart | Title
0600001 | NSPS | Dc | Alternative Fuel Monitoring.
0600002 | NSPS | BB | Exemption from TRS Standard for Brown Stock Washer.
0600003 | NSPS | BB | Alternative Monitoring for Scrubber.
0600004 | NSPS | Db, Dc | Fuel Supplier Certification Statements.
0600006 | NSPS | J | Alternative Monitoring Plan for a Catalytic Cracking Unit.
0600007 | NSPS | J | Alternative Monitoring Plan for a Flare.
0600008 | NSPS | AAa | Alterations to an Electric Arc Furnace.
0600082 | NSPS | A, J | Alternative Monitoring Plan for Hydrogen Production Facility.
M060001 | MACT | MMM | Compliance Test Waiver Request.
M060002 | MACT | MMMM | Post Vulcanized Rubber-to-Metal Parts Bonding.
M060003 | MACT | DDDDD | Common Duct Testing and Acid Rain Program Opt-in.
M060004 | MACT | DDDDD | Firetube Boilers.
M060005 | MACT | EEE | Liquid-to-Gas Ratio Operating Parameter Limit.
M060006 | MACT | IIII | Use of Previously Conducted Transfer Efficiency Test.
M060007 | MACT | MM | Alternative Monitoring for Scrubber.
M060008 | MACT | A, EEE | Alternative Monitoring Locations and Parameters.
M060009 | MACT | A, EEE | Alternative Monitoring Plan for Hazardous Waste Combustor.
Z060001 | NESHAP | FF, V | Alternative Monitoring Plan for Dual Purpose Valves.
0600009 | NSPS | WWW | Landfill Gas Processing System as Treatment.
0600010 | NSPS | WWW | Landfill Gas Processing System as Treatment.
0600011 | NSPS | WWW | Landfill Gas Processing System as Treatment.
0600012 | NSPS | WWW | Landfill Gas Processing System as Treatment.
0600013 | NSPS | WWW | Landfill Gas Processing System as Treatment.
0600014 | NSPS | WWW | Temperature Monitors in Gas Turbines.
0600015 | NSPS | VV | Liquid Urea Manufacturing Operations.
A060001 | Asbestos | M | Demolition under Control of Same Owner or Operator.
A060002 | Asbestos | M | Removal of Floor Mastic Using a Mechanical Buffer.
A060003 | Asbestos | M | Applicability of 260 Linear Feet Requirement.
A060004 | Asbestos | M | Test Method for Spray-applied Acoustical Materials.
A060005 | Asbestos | M | Regulated Asbestos Containing Material.
A060006 | Asbestos | M | Meaning of Preclude Access and Dripping.
M060010 | MACT | HH, HHH | Clarification of Ownership and Co-location.
M060011 | MACT | NNN | Metal Building Insulation.
M060012 | MACT | MMMM | Post Vulcanized Rubber-to-Metal Parts Bonding.
M060013 | MACT | PPP | Use of Tetrahydrofuran (THF) as Raw Material.
M060014 | MACT | H | Nitrile Stripper Column System.
M060015 | MACT | FFFF, HHHHH | Non-Dedicated Mixing Vessels.
0600016 | NSPS | A, G | Modification of Nitric Acid Plant.
0600017 | NSPS | UUU | Tile Dryers.
0600018 | NSPS | SS | Coating of Dishwasher Racks.
0600019 | NSPS | A, KKKK | Commencement of Construction.
0600020 | NSPS | UUU | Opacity Monitoring Exemption.
0600021 | NSPS | A, KKKK | Commencement of Construction.
0600022 | NSPS | Dc | Reporting Frequency Requirements.
0600023 | NSPS | OOO | Air Classifiers.
0600024 | NSPS | UUU | Titanium Dioxide Ore Dryers and Product Dryers.
0600025 | NSPS | A, D | State Monitoring Requirements in Lieu of 40 CFR Part 60.
0600026 | NSPS | Dc | Alternative Opacity Monitoring.
0600027 | NSPS | A, CC | Modification and Capital Expenditure Calculations.
0600028 | NSPS | A, CC | Modification and Capital Expenditure Calculations.
0600029 | NSPS | A | SIP-mandated Expenditures and Reconstruction.
M060016 | MACT | G | Once In/Always In Rule.
M060017 | MACT | YY | Dry Spinning Spandex Production Process Units.
M060018 | MACT | HHHHH, MMMM | Coating of Test Panels Not Used in Final Product.
M060019 | MACT | MM | Alternative Monitoring of Smelt Dissolving Tank Scrubber.
M060020 | MACT | JJJJ, OOOO | Point of Determination for Group of Coating Lines.
M060021 | MACT | NNNNN | Alternative Monitoring Plan for HCL Scrubber.
M060022 | MACT | S | Alternative Monitoring Parameters for a Dual Control System.
M060023 | MACT | S | Clean Condensate Alternative & Creditable Reductions.
M060024 | MACT | S | Applicability of White Liquor Oxidation System.
M060025 | MACT | EEEEE | Molding and Core Making.
M060026 | MACT | S | Clean Condensate Alternative & Creditable Reductions.
Z060003 | NESH | FF | Benzene Emissions from Exchange Leaks.

Summary of Headers and Abstracts

Abstracts

Abstract for [A060001]

Q: Are residential structures that are demolished as part of a larger project, such as highway expansion, subject to the asbestos requirements under 40 CFR part 61, subpart M?

A: Yes. EPA finds, pursuant to 40 CFR 61.145, that if two or more residences under the control of the same owner or operator are part of a larger demolition project, such as highway expansion, they are subject to the asbestos regulation, NESHAP subpart M.

Abstract for [A060002]

Q1: Is floor mastic a Category 1 asbestos-containing material under 40 CFR part 61, subpart M?

A1: No. EPA finds that floor mastic is not a Category 1 asbestos-containing material under the Asbestos NESHAP. However, pursuant to 40 CFR 61.141, it is a Category II asbestos-containing material.

Q2: Does the use of a mechanical buffer with an abrasive pad on floor mastic cause the floor mastic to become friable, and thus a Regulated Asbestos-Containing Material (RACM) under 40 CFR part 61, subpart M?

A2: Yes. EPA finds that pursuant to 40 CFR 61.141, the use of a mechanical buffer with an abrasive pad causes floor mastic to become friable and, thus, it is considered a RACM under the asbestos NESHAP.

Abstract for [A060003]

Q: Does the regulatory threshold of 260 linear feet on pipes apply to caulking and roof flashing materials that qualify as regulated asbestos-containing material (RACM) under 40 CFR part 61, subpart M?

A: No. EPA finds the 260 linear feet threshold is applicable only to pipes under the asbestos NESHAP. Other materials, such as caulking or roof flashing, are subject to the 160 square foot standard as specified in 40 CFR 61.145.

Abstract for [A060004]

Q1: Has EPA issued guidance specifically about spray-applied acoustical materials under 40 CFR part 61, subpart M?

A1: No. EPA has not issued guidance under the asbestos NESHAP specifically about spray-applied acoustical materials.

Q2: Does EPA recommend that the public assure spray-applied acoustical materials to contain asbestos without testing, and, what method(s) should be used to test these materials under 40 CFR part 61, subpart M?

A2: No. EPA is not recommending that the public assure spray-applied acoustical materials to contain asbestos without testing. In regards to testing spray-applied acoustical materials, Polarized Light Microscopy (PLM) is specified in 40 CFR part 63 as the approved testing method; however, Transmission Electron Microscopy (TLM) is also an acceptable method.

Abstract for [A060005]

Q: Does 40 CFR part 61, subpart M, require that all asbestos-containing materials be removed before the demolition of a facility?

A: No. The asbestos NESHAP does not require all asbestos-containing materials to be removed before demolition. However, all Regulated Asbestos Containing Material (RACM) must be removed from a facility being demolished or renovated before any activity begins that would break up, dislodge, or similarly disturb the material or preclude access to the material for subsequent removal.

Abstract for [A060006]

Q: Could EPA clarify the meaning of the words “preclude access” and “dropping” in 40 CFR 61.145(c)(1) and 61.145(c)(6) of the asbestos NESHAP, subpart M?

A: EPA finds that the use of the term “preclude access” in 40 CFR 61.145(c)(1) of the asbestos NESHAP is intended to ensure that all Regulated Asbestos Containing Material (RACM) expected to be disturbed during the demolition or renovation is removed from the facility before any action is taken that could prevent safe removal of the RACM during a later phase of the project. The use of the term “dropping” is intended to prevent RACM from falling (instead of being “placed”) on the floor and to ensure that RACM is moved in a careful way to minimize asbestos fiber release.

Abstract for [M060001]

Q: Does EPA waive the Method 5 test requirement for a second process vent, under 40 CFR part 63, subpart MMM, at the Arkema facility in Riverview, Michigan?

A: Yes. EPA waives the Method 5 test because information submitted by the facility shows that it is impractical to test the second vent due to short operating time, low flow rate, and low pressure drop. Dust emissions will be drawn through the first vent which will be tested, and any remaining dust will be trapped in the vent collection tank or in the mineral oil scrubbers.

Abstract for [M060002]

Q: Does EPA find that a coating being applied at the Cooper Tire & Rubber facility in Findlay, Ohio, that uses the same methodology, composition, and function as a rubber-to-metal coating, but that is bonded during a heating process not involving the vulcanization of rubber, is a rubber-to-metal coating under 40 CFR part 63, subpart MMMM?

A: No. EPA finds that because the bonding process is not performed during the vulcanization process, it is not considered a rubber-to-metal coating and should not be included in that category. Instead, the coating is subject to the general use coating subcategory emission limit in 40 CFR 63.3890(b)(1).

Abstract for [M060003]

Q1: Can the required emission tests, under 40 CFR part 63, subpart DDDDD, be conducted in the common duct for boilers 1, 2, and 3 at the Dairyland Power Cooperative Alma Station in LaCrosse, Wisconsin?

A1: No. 40 CFR 63.7510 requires that each unit be tested, and the language in Section II.F of the September 13, 2004 Preamble to the Final Rule reinforces this requirement. The facility is required to submit an alternative test procedure request with appropriate technical justification, if it wants to conduct common duct testing. However, testing in a common duct is considered a minor change to a test method; thus, EPA Regions and delegated States may approve such a request.

Q2: Does EPA find that boilers 1, 2, and 3 would be exempt from the boiler MACT, under 40 CFR part 63, subpart DDDDD, if they opt into the Acid Rain Program?

A2: No. EPA finds that 40 CFR 63.7491 includes no such exemption. A source cannot avoid controlling mercury emissions by agreeing to control sulfur dioxide and nitrogen oxides.

Abstract for [M060004]

Q: Does EPA find that the two 250-horsepower firetube boilers planned for installation at Green Bay Packaging in Green Bay, Wisconsin, should be regulated within the “small gaseous fuel subcategory” as defined in MACT subpart DDDDD, 40 CFR 63.7575, even if each boiler's heat input rating at 100 percent efficiency may reach 10.5 million BTU per hour?

A: Yes. EPA finds that these boilers are regulated within the “small gaseous fuel subcategory” as that term is defined in MACT subpart DDDDD, 40 CFR 63.7575. In response to comments, the Agency agreed to add firetube boilers to the definition of small liquid fuel and gaseous fuel subcategories in the final rule.

Abstract for [M060005]

Q: Does EPA approve a request from Minnesota Mining & Manufacturing Company (3M), under 40 CFR part 63, subpart EEE, to establish a high energy wet scrubber's hydrogen chloride/chlorine liquid-to-gas ratio operating parameter limit for a hazardous waste incinerator unit that is equal to 20.4 gallons per 1,000 dry standard cubic feet based upon the data from 3M's September 1 and 2, 2004, comprehensive performance test and not upon the data from 3M's July 2001, Resource Conservation and Recovery Act Trial Burn?

A: No. EPA does not approve the request because the company has not demonstrated that the proposed hydrogen chloride/chlorine liquid-to-gas ratio operating parameter limit also corresponds to compliance with the particulate matter, semi-volatile metal, and low volatile metals emission standards.

Abstract for [M060006]

Q: Does EPA approve at the General Motors (GM) Orion Assembly Plant in Orion, Michigan, the use of the results of a transfer efficiency test conducted in December 2004 for the primer surfacer and topcoat operations in lieu of performing another transfer efficiency test, under 40 CFR part 63, subpart IIII?

A: Yes. EPA approves the use of the December 2004 test results for the primer surfacer and the topcoat operations in lieu of performing an initial test to determine transfer efficiency. The test meets the requirements of MACT subpart IIII, 40 CFR 63.3160(c). There have been no process or equipment changes since the test that would trigger retesting, and the required operating parameters and transfer efficiency were established during the test.

Abstract for [M060007]

Q: Does EPA approve the continuous monitoring of fan amps and total scrubbing liquid flow rate as an alternative to the scrubber monitoring parameters required by NSPS Subpart BB and NESHAP Subpart MM, at the Weyerhaeuser Company facility in Bennettsville, South Carolina?

A: Yes. EPA approves this alternative continuous monitoring plan under MACT subpart MM and NSPS subpart BB because the dynamic scrubber operates near atmospheric pressure and the proposed monitoring is an acceptable alternative. Consistent with the requirements of 40 CFR 63.864, fan amps and scrubber liquid flow rate must be monitored at least once each successive 15-minute period, and continuous compliance must be determined based on a 3-hour average.

Abstract for [M060008]

Q1: Does EPA approve the request for an alternative monitoring location to continuously monitor total hydrocarbons and carbon monoxide, under 40 CFR part 63, subpart EEE, at the Ash Grove Cement Company facility in Overland Park, Kansas?

A1: Yes. EPA approves the request to monitor hydrocarbons in the by-pass and between stages numbers 2 and 3 of the preheater instead of in the main stack, pursuant to MACT subpart EEE, 40 CFR 63.1209(g)(1) and 63.8(f). Both the bypass and preheater gas streams must have a hydrocarbon limit of 10 ppmv on an hourly rolling average basis as defined in MACT subpart EEE. The location of the hydrocarbon monitors must be as specified in the Comprehensive Performance Test Plan, downstream of the bypass baghouse, while the preheater monitor shall be located in the gas stream between stages numbers 2 and 3 of the pre-heater in a manner that ensures a representative sample of gas will be monitored.

Q2: Does EPA also approve the request for an alternative method to calculate the maximum gas temperature at the inlet to the facility's particulate matter control device, under 40 CFR part 63, subpart EEE?

A2: Yes. EPA approves this request for an alternative calculation pursuant to MACT subpart EEE, 40 CFR 63.1209(g)(1) and 63.8(f) due to the potential danger associated with operating the coal mill baghouse at an elevated temperature. The facility will establish that the maximum gas temperature at the inlet of the coal mill baghouse does not exceed 200 degrees Fahrenheit. Establishing the maximum gas temperature at the inlet is an alternative for the coal mill baghouse only.

Q3: Does EPA also approve the request for an alternative to calculate the minimum combustion chamber temperature limit as required by 40 CFR 63.1209(j)(1) and (k)(2)?

A3: No. EPA does not approve the request to set the minimum combustion chamber temperature as the average of the highest hourly rolling averages measured in each trial run burn. However, EPA finds the source could establish a minimum combustion chamber temperature by matching the combustion chamber temperature profile during the comprehensive performance test using the specific procedures described in EPA's response as an alternative to establishing the minimum combustion chamber temperature.

Abstract for [M060009]

Q: Does EPA approve the alternative monitoring request to continuously monitor oxygen and temperature instead of carbon monoxide or total hydrocarbons, under 40 CFR part 63, subpart EEE, at the Holcim facility in Clarksville, Montana?

A: Yes. EPA approves this alternative monitoring request pursuant to MACT subpart EEE, 40 CFR 63.1209(g)(1) and 63.8(f), provided the facility meets the conditions established for the performance test for destruction and removal efficiency (DRE) that demonstrates compliance with the DRE standard found in 40 CFR 63.1204(c), and carbon monoxide and total hydrocarbon standards found in 40 CFR 63.1204(a)(5), as indicated in EPA's response.

Abstract for [M060010]

Q: Could EPA clarify the relationship between ownership and co-location in regards to the applicability of 40 CFR part 63, subpart HH, to the Mocane Cryogenic/Compressor Station located near Forgan, Oklahoma, and owned by Regency Gas Services and Colorado Interstate Gas?

A: EPA finds that all the facility operations are located at a single site, as defined in 40 CFR 63.761 of MACT subpart HH, and, because the transmission and storage source category begins where natural gas enters the transmission pipeline, the site is subject to MACT subpart HH. EPA also finds the equipment qualifies as a single Title V source with all equipment subject to Title V permitting. Because of separate ownership, individual Title V permits will be issued to the owner of the specific equipment.

Abstract for [M060011]

Q: Does 40 CFR part 63, subpart NNN, apply to the metal building insulation produced at CertainTeed's facility in Kansas City, Kansas?

A: Yes. EPA finds that metal building insulation meets the definition of building insulation for purposes of MACT subpart NNN, and that production of this insulation at the CertainTeed facility is subject to MACT subpart NNN.

Abstract for [M060012]

Q: Does EPA find that an autoclave should be included in the rubber-to-metal or general use subcategory, under 40 CFR part 63, subpart MMMM, if a partial vulcanization occurs in the first heating step and the part is submitted fully vulcanized in the autoclave, as is the case of the Cooper Standard Automotive facility in Michigan?

A: EPA finds that the autoclave should be included in the rubber-to-metal subcategory under MACT subpart MMMM. EPA has determined that the second coating step of a metal insert bonded to rubber does involve vulcanization based on the stress test results done on two metal parts coated with the same adhesive, and should be included in such subcategory.

Abstract for [M060013]

Q: Does EPA find that the substantive control, testing, and monitoring requirements of 40 CFR part 63, subpart PPP, apply to the 3M process using tetrahydrofuran (THF) as a raw material at the Specialty Material Manufacturing facility in Cottage Grove, Minnesota?

A: Yes. EPA finds that the language at 40 CFR 63.1420(d)(3) only exempts those processes which produce polyether polyols from epoxide polymerization, and, by its terms, does not extend the exemption under MACT subpart PPP to processes which produce polyether polyols from THF. The facility did not provide the Agency sufficient information to determine whether only the recordkeeping or demonstration requirements at 40 CFR 63.1420(b)(1) would apply to the process.

Abstract for [M060014]

Q1: Does EPA find that the nitrile stripper column (NSC) system at the INVISTA S.a.r.l. (INVISTA) Victoria plant should be classified as a waste management unit or a recovery device, under 40 CFR part 63, subpart PPP, or can it be subject to two sets of requirements at the same time because it may qualify both as a waste management and a recovery device under the Hazardous Organic National Emissions Standard for Hazardous Air Pollutants (HON) rule, 40 CFR part 63, subpart F?

A1: EPA finds that the NSC system cannot be subject to two sets of standards under the HON rule and that it should be classified as a waste management unit under that rule. Based on the concept of “discarded” within the terms “point of determination” and “wastewater” in the HON rule, the NSC system must either be a recovery device within the CMPU or a waste management unit outside of the CMPU. The fact that the NSC system is receiving the stormwater stream from the Victoria plant, in addition to the stream from the ADN unit for which it was originally designed, clarifies for the Agency that the NSC system is outside of the CMPU. The liquid stream transferred from the ADN process to the NSC system is, therefore, “discharged” to the NSC system. This makes the NSC system a “waste management unit” and the ADN stream “wastewater”, subject to the performance standards of 40 CFR 63.138 of the HON rule.

Q2: What is the appropriate classification for the NSC system if the stormwater runoff is no longer routed to the ADN unit?

A2: When the stormwater runoff is removed from the NSC system, the NSC system should be evaluated as a recovery device because the NSC system potentially serves the purpose of recovering chemicals for fuel value, use, reuse or for sale for fuel value, use or reuse.

Abstract for [M060015]

Q: Could EPA clarify the applicability of the Miscellaneous Organic Chemical Manufacturing NESHAP (MON rule) and the Miscellaneous Coating Manufacturing NESHAP (MCM rule), under 40 CFR part 63, subparts FFFF and HHHHH respectively, to non-dedicated mixing vessels which support coatings manufacturing in three different areas at the Cytec Industries facility in Havre de Grace, Maryland?

A: EPA determines that in area one the non-dedicated HAP mixing vessels are used in the production of “pre-react” isolated intermediates which are stored below ambient temperature until further processing to produce a coating occurs, and therefore, are subject to the MON. The pre-react is similar to a synthesis operation producing a MON chemical described by SIC code 289, rather than a coating. EPA agrees that since the “pre-react” meets all of the criteria specified in EPA's response, it is a MON product and therefore the mixing vessel that produces it is subject to the MON. In area two, the MON chemical is mixed with curing systems, fillers, and other additives, and a coating is produced. Since the non dedicated HAP mixing vessels in area two are associated with the production of a coating, they are part of the miscellaneous coating manufacturing subject to the MCM rule. Area three consists of the application of the coating produced in area two. Neither the MON nor the MCM apply to the application of coatings.

Abstract for [M060016]

Q: Does MACT subpart G, pursuant to 40 CFR 63.100(b)(4), provide minor source status to International Specialty Products' butanediol facility in Lima, Ohio, given that the facility is no longer part of the BP Amoco Chemical Company (BP) major source; has actual emissions of less than 2 tpy of individual hazardous air pollutants (HAP) and less than 4 tpy of total HAP; shares no common control or ownership with BP; and is a discrete facility that is not contiguous with any BP property or any of the remaining sources listed on the current BP Title V permit?

A: No. EPA finds that the facility is not eligible for minor source status under MACT subpart G. It was constructed and permitted as a major source on the compliance date for new sources in the HON. Thus, according to the “once in, always in” policy, it remains subject to the HON rule, even if it subsequently reduces its emissions below major source thresholds.

Abstract for [M060017]

Q: Does 40 CFR part 63, subpart YY, apply to the spandex production equipment at the Invista facility in Waynesboro, Virginia, where the equipment is part of one or more dry spinning spandex production process units?

A: No. EPA finds that the spandex production equipment is not subject to MACT subpart YY. 40 CFR 63.1103(h)(1)(ii) defines emission points, listed in paragraphs (h)(1)(i)(A) through (C), that are associated with a dry spinning spandex production process unit that are not subject to the requirements of 40 CFR 63.1103(h)(3) even though the process is part of the spandex production source category.

Abstract for [M060018]

Q: Does 40 CFR part 63, subpart MMMM, apply to a spray booth at the PPG Industries, Inc. (PPG) facility in Springdale, Pennsylvania, that would be used to prepare painted sample panels to be tested at a laboratory?

A: No. EPA determines that PPG's proposed new spray booth would not be subject to NESHAP subpart MMMM, the Surface Coating of Miscellaneous Metal Parts and Products rule, since the spray booth would not be used to apply surface coating of “miscellaneous metal parts or products,” which include certain various “industrial, household, and consumer products,” or their “metal components,” i.e., parts, as defined in 40 CFR 63.3881. The sample panels that PPG plans to prepare in its new spray booth do not qualify as “industrial, household, and consumer products” because they will be prepared solely to allow coatings to be tested in a laboratory, will not be sold in commerce, and will eventually be recycled as scrap metal. The sample panels also do not qualify as “metal components” of “industrial, household, and consumer products” because the panels will never become part of an industrial, household, or consumer product.

Abstract for [M060019]

Q: Does EPA approve continuous monitoring of fan amperage and scrubbing liquid flow rate in lieu of scrubber pressure drop under 40 CFR part 63, subpart MM, for the smelt dissolving tank scrubber at the Smurfit-Stone Container Hopewell Mill in Hopewell, Virginia?

A: Yes. EPA finds that pressure drop is not the best indicator of control device performance for low-energy entrainment scrubbers. Compliance with MACT subpart MM could be demonstrated by verifying ID fan operation, maintaining a scrubber liquid flow rate, and maintaining a scrubbing liquid supply pressure based on established parameters from the facility's performance test.

Abstract for [M060020]

Q: Does EPA agree that the Point of Determination (POD) for the predominant use ratio (e.g., 90 percent/10 percent) which, according to 40 CFR 63.4281(e), would determine whether part 63, subpart OOOO (“Fabric NESHAP”) or subpart JJJJ (“Paper and Other Web Coating NESHAP, POWC NESHAP”) would apply, can be located at the entry point to the common control device for the Cytec Engineered Materials Inc. facility in Havre de Grace, Maryland?

A: No. EPA does not approve Cytec's request to consider the entry point to the common control device for the four coaters/dryers as a POD for purposes of establishing the MACT subpart OOOO predominant use ratio. 40 CFR 63.4281(e) states that “any web coating line must comply with the subpart of this part that applies to the predominant use activity conducted at the affected source.” This indicates that a predominant use determination under the Fabric NESHAP can be made only with respect to a single coating line, not groups of coating lines. Therefore, Cytec, Inc. must assure ensure that its three coaters/dryers subject to POWC NESHAP comply with all of the POWC NESHAP's requirements, and that its one coater/dryer subject to the Fabric NESHAP complies with all of the Fabric NESHAP's requirements.

Abstract for [M060021]

Q: Does EPA approve, under 40 CFR part 63, subpart NNNNN, the monitoring of alternative operating limit parameters (scrubber base temperature and indicators of proper liquid flow) at the DuPont Washington Works facility in Washington, West Virginia?

A: Yes. EPA finds that DuPont has demonstrated that the scrubber monitoring specified under MACT subpart NNNNN is not appropriate for its process, and that the proposed alternative monitoring meets the requirements for approval in 40 CFR 63.9025(b) and 63.8(f).

Abstract for [M060022]

Q: Does EPA approve monitoring the secondary power from the electrostatic precipitator (ESP) as an alternative monitoring parameter to monitoring pressure drop on the scrubber, under 40 CFR part 63, subpart S, for a dual-control device consisting of an ESP followed by a packed tower scrubber at the International Paper Georgetown Mill, in Georgetown, South Carolina?

A: No. EPA does not approve monitoring secondary power from the ESP in-lieu-of monitoring the pressure drop on the scrubber because there is no demonstration to show that the negative electric charge on particles exiting the ESP will have anything more than negligible effects on the efficiency of the scrubber.

Abstract for [M060023]

Q: Does EPA approve that emission reductions achieved as a result of upgrades to a wastewater lagoon at the Buckeye facility in Perry, Florida, are creditable to demonstrate compliance with the condensate collection requirements in 40 CFR 63.446(c) of the Pulp and Paper MACT, 40 CFR part 63, subpart S?

A: EPA determines that the reductions may be creditable provided that Buckeye can provide the necessary data to satisfactorily demonstrate continuous compliance with the lb/ODTP compliance option for condensate collection and treatment, beginning at the initial compliance date, as described in EPA's response. The data would be generally considered creditable if it demonstrates that such emission reductions resulted from efficiency improvements to a control device that can be verified; are clearly from additional improvements in technology; and are not otherwise needed to meet regulatory requirements.

Abstract for [M060024]

Q: Does EPA find that the White Liquor Oxidation (WLOx) system portion of a pulp and paper mill's oxygen delignification system subject to the requirements of the Pulp and Paper MACT, 40 CFR part 63, subpart S, at the Palatka Mill in Palatka, Florida?

A: No. EPA finds that the WLOx system is not named as one of the pieces of process equipment in the regulatory definition of an oxygen delignification system and therefore is not subject to the MACT subpart S requirements in 40 CFR 63.443.

Abstract for [M060025]

Q: Does EPA find that mold and core making lines that use the “Expandable Pattern Casting” (or “Lost Foam”) process at the Mueller Company's facility in Albertville, Alabama subject to the MACT requirements for Iron and Steel Foundries under 40 CFR part 63, subpart EEEEE?

A: Yes. The pouring, cooling, and shakeout operations of Mueller's Expendable Pattern Casting process are not significantly different than a conventional sand casting operation, and therefore should be considered as such for 40 CFR part 63, subpart EEEEE purposes. In addition, Mueller's pouring operations would be classified as pouring stations, not pouring areas. The main distinctions between a pouring station and a pouring area are that pouring stations are automated and that the pouring can reasonably be assumed to occur at distinct points.

Abstract for [M060026]

Q: Does EPA approve that emission reductions resulting from improvements to the pulp washer line fans, under 40 CFR part 63, subpart S, creditable for the Pulp & Paper MACT Clean Condensate Alternative (CCA) at the Smurfit-Stone facility in Fernandina Beach, Florida?

A: No. Generally, a mill can make efficiency improvements to a control device and then use the incremental improvements for CCA credit if the emission changes are verifiable and clearly from additional improvements in technology. The modifications described for this facility are not additional improvements in technology, but rather equipment upgrades to meet proper operating levels and result in HAP reductions from emissions that should never have been emitted.

Abstract for [Z060001]

Q: Does EPA approve an alternative monitoring plan for pressure/vacuum relief valves, under 40 CFR part 61, subpart FF, for the wastewater treatment plant tanks and oil-water separator at the Flint Hills Resources refinery in Saint Paul, Minnesota?

A: Yes. EPA concludes that the pressure/vacuum relief valves function as both pressure relief devices and dilution air openings. Further, the Agency recognizes that the requirements of 40 CFR 61.343(a)(1)(i)(B) and (C) do not account for this dichotomy, and it approves the proposed alternative monitoring plan under NESHAP subpart FF to resolve the conflicting requirements.

Abstract for [0600001]

Q: Does EPA approve an alternative monitoring plan altering the required daily monitoring, under 40 CFR part 60, subpart Dc, 40 CFR 60.48c(g), to a monthly monitoring schedule for natural gas fuel usage at the Ypsilanti Community Utilities Authority facility in Ypsilanti, Michigan?

A: Yes. EPA conditionally approves the alternative monitoring request to record natural gas usage for two new boilers on a monthly, rather than a daily basis. EPA finds that compliance with NSPS Subpart Dc can be adequately verified by keeping fuel usage records on a monthly basis if only natural gas is burned. The facility must also specify how the total fuel usage will be apportioned to individual boilers.

Abstract for [0600002]

Q: Does EPA approve an exemption from the Total Reduced Sulfur (TRS) standard in NSPS subpart BB, 40 CFR 60.283(a)(1)(iv), for the brown stock washer (BSW) system at the Buckeye Florida Limited Partnership facility in Perry, Florida?

A: Yes. Based on cost information supplied and recent cost estimates from other facilities, EPA finds that the BSW system qualifies for a temporary exemption under NSPS subpart BB. Should future changes make the control of TRS emissions from the Number 2 Mill BSW system cost effective, this exemption will no longer apply, and it will be necessary for Buckeye to control TRS emissions.

Abstract for [0600003]

Q: Does EPA approve the continuous monitoring of fan amps and the total scrubbing liquid flow rate as an alternative to the scrubber monitoring parameters required by 40 CFR part 60, subpart BB, and 40 CFR part 63, subpart MM, for a smelt dissolving tank dynamic scrubber at the Weyerhaeuser Company facility in Bennettsville, South Carolina?

A: Yes. EPA approves these alternative monitoring parameters. The dynamic scrubber operates near atmospheric pressure and thus the proposed monitoring, in combination with monitoring of scrubber liquid flow rate, is an acceptable alternative to the NESHAP subpart MM requirement to monitor the pressure loss of the gas stream and the scrubbing liquid flow rate. In addition, EPA approves the request to monitor scrubbing liquid flow rate as an alternative to the NSPS subpart BB requirement to monitor scrubber liquid supply pressure.

Abstract for [0600004]

Q: Does EPA exempt facilities which use very low sulfur oil from the requirement to obtain certifications of sulfur content for each shipment of fuel oil delivered, under 40 CFR part 60, subparts Db and Dc, and permit them to provide only receipts indicating the type of fuel delivered?

A: No. EPA does not exempt facilities from the requirement to obtain certifications of sulfur content for shipments of fuel oil. The requirements of NSPS subparts Db and Dc regarding certification of fuel sulfur content must be met.

Abstract for [0600006]

Q: Does EPA approve a request for an exemption from the requirement in NSPS subpart J, 40 CFR 60.105(a)(2)(ii), to install, calibrate, operate, and maintain a carbon monoxide continuous emission monitor with a 1,000-ppmv span gas for a fluid catalytic cracking unit at the Flint Hills Resources facility in Saint Paul, Minnesota?

A: Yes. EPA finds that the facility qualifies for the exemption set forth in 40 CFR 60.105(a)(2)(ii) because the company has met the following requirements: calibrated a CO CEM with a span value of 100 parts per million by volume, dry basis (PPMVD); demonstrated that the relative accuracy is 10 percent of the average CO emissions or 5 PPM CO, whichever is greater; and demonstrated that the average CO emissions during a 30-day period are less than 50 PPMVD with the CO CEM. The facility still must comply with a state air permit requirement to install and maintain a CO CEM with a 100 PPMV span.

Abstract for [0600007]

Q: Does EPA approve an alternative monitoring plan for a zinc thermal oxidizer flare used during periods of maintenance or malfunction of a vapor recovery unit at a gasoline loading rack, under 40 CFR part 60, subpart J, at the Flint Hills Resources facility in Saint Paul, Minnesota?

A: Yes. EPA finds that the company has demonstrated that this refinery fuel gas meets the criteria in EPA's guidance for refinery fuel gas stream alternative monitoring plans and approves the alternative monitoring plan.

Abstract for [0600008]

Q1: Does EPA find that the alterations made in 1985 to electric arc furnace (EAF) number 2 at Oregon Steel Mill's facility in Portland, Oregon, meet the definition of “modification” under 40 CFR part 60, subpart AAa?

A1: No. Based on the information provided, EPA finds that the alterations made in 1985 to EAF number 2 do not constitute a modification under NSPS subpart AAa. Although the alterations increased the production rate of steel from 25 tons per hour to 50 tons per hour, they did not increase particulate matter emissions.

Q2: Does EPA find that the alterations meet the definition of “reconstruction” under 40 CFR part 60, subpart AAa?

A2: No. Based on the information provided, EPA finds that the changes made in 1985 to EAF number 2 do not constitute a reconstruction under NSPS subpart AAa. Reconstruction is based on a comparison of the fixed capital cost of the new components and a comparable entirely new facility, that is, a new eccentric bottom tap EAF capable of producing 50 tons of steel per hour. The EAF consists of the furnace shell and roof and the transformer. The cost of the 1985 alterations was 31.8 percent of the cost of the comparable entirely new facility, which is less than the 50 percent reconstruction cost threshold.

Q3: Does EPA find that the other changes made to the EAF number that resulted in an increase on the potential emission rate was accomplished with a “capital expenditure” as defined under 40 CFR part 60, subpart AAa?

A3: No. EPA finds that the changes made in 1987, 1990, 1991, 1993, 1997 and 1998 to EAF number 2 did not require capital expenditures as defined in 40 CFR 60.2. The annual asset guideline repair allowance percentage for an EAF is 18 percent. The changes that enabled increases in production rate included the purchase of a transformer and the installation of oxy-fuel burners, a post combustion system, aluminum current arms, and other changes, all of which did not cost more than 18 percent of the basis for an EAF.

Abstract for [0600009]

Q: Does EPA find that the gas processing system at the Bethel Landfill in Hampton, Virginia, qualifies as treatment under NSPS subpart WWW, pursuant to 40 CFR 60.752(b)(2)(iii)(C)?

A: Yes. EPA considers compression, filtration, and moisture removal from a landfill gas for use in eight reciprocating internal combustion engines to be treatment pursuant to 40 CFR 60.752(b)(2)(iii)(C). Because the engines will be exempt from monitoring, they do not have to be included in the Startup, Shutdown, and Malfunction Plan (SSM Plan) required by 40 CFR part 63, subpart AAAA. However, the treatment system supplying gas to the turbines will have to be included in the SSM Plan.

Abstract for [0600010]

Q: Does EPA consider the gas processing system that includes the three turbines at the Grand Central Landfill in Pen Argyl, Pennsylvania, to be treatment under 40 CFR part 60, subpart WWW, pursuant to 40 CFR 60.752(b)(2)(iii)(C)?

A: Yes. EPA considers compression, filtration, and moisture removal from a landfill gas for use in an energy recovery device to be treatment under NSPS subpart WWW, pursuant to 40 CFR 60.752(b)(2)(iii)(C). Because the engines will be exempt from monitoring, they do not have to be included in the Startup, Shutdown, and Malfunction Plan (SSM Plan) required by 40 CFR part 63, subpart AAAA. However, the treatment system supplying gas to the turbines will have to be included in the SSM Plan. Also, Pennsylvania may include state enforceable requirements in any permit it issues, based on its review of state laws and regulations.

Abstract for [0600011]

Q: Does EPA consider the gas processing system at Keystone Potato Products' facility in Hegins, Pennsylvania, to be treatment under 40 CFR part 60, subpart WWW?

A: Yes. EPA considers compression, filtration, and moisture removal from a landfill gas for use in an energy recovery device to be treatment under NSPS subpart WWW, pursuant to 40 CFR 60.752(b)(2)(iii)(C). Because the engines will be exempt from monitoring, they do not have to be included in the Startup, Shutdown, and Malfunction Plan (SSM Plan) required by 40 CFR Part 63, subpart AAAA. However, the treatment system supplying gas to the turbines will have to be included in the SSM Plan. Also, Pennsylvania may include state enforceable requirements in any permit it issues, based on its review of state laws and regulations.

Abstract for [0600012]

Q: Does EPA consider the gas processing system at the Lake View Landfill in Philadelphia, Pennsylvania, to be treatment under 40 CFR part 60, subpart WWW?

A: Yes. EPA considers compression, filtration, and moisture removal from a landfill gas for use in an energy recovery device to be treatment under NSPS subpart WWW, pursuant to 40 CFR 60.752(b)(2)(iii)(C). Because the engines will be exempt from monitoring, they do not have to be included in the Startup, Shutdown, and Malfunction Plan (SSM Plan) required by 40 CFR Part 63, subpart AAAA. However, the treatment system supplying gas to the turbines will have to be included in the SSM Plan.

Abstract for [0600013]

Q: Does EPA consider gas processing system to be treatment as specified under 40 CFR part 60, subpart WWW at the Modern Landfill facility in York, Pennsylvania?

A: Yes. EPA considers compression, filtration, and moisture removal from a landfill gas for use in an energy recovery device to be treatment under NSPS subpart WWW, pursuant to 40 CFR 60.752(b)(2)(iii)(C). Because the engines will be exempt from monitoring, they do not have to be included in the Startup, Shutdown, and Malfunction Plan (SSM Plan) required by 40 CFR Part 63, subpart AAAA. However, the treatment system supplying gas to the turbines will have to be included in the SSM Plan.

Abstract for [0600014]

Q: Does EPA approve the use of post-combustion chamber temperature monitors as an alternative to combustion chamber temperature monitors in turbines at the Pottstown Landfill facility in Pottstown, Pennsylvania, required by 40 CFR part 60, subpart WWW?

A: Yes. EPA has determined that the location of the temperature monitors on these turbines is acceptable as an alternative to being located in the combustion zone of the turbines.

Abstract for [0600015]

Q: Does 40 CFR part 60, subpart VV, apply to liquid urea manufacturing operations?

A: EPA has not provided a site-specific determination in this case because the source has not been identified. Additionally, EPA is not prepared to issue a blanket exemption for liquid urea manufacturing operations as none was issued during the rulemaking process. In addition, a liquid urea facility must look to the same criteria in 40 CFR 60.480(a) and (b) as other manufacturers of listed chemicals to determine whether it is subject to NSPS subpart VV. The facility must then consider whether it might be exempted under 40 CFR 60.480(d).

Abstract for [0600016]

Q: Will plant changes to increase production capacity result in a modification of the C-1 Nitric Acid Plant located at the PCS Nitrogen Fertilizer facility in Augusta, Georgia? Is the use of pre-change and post-change emission testing the appropriate means of determining whether the change results in an increase in the NOX emission rate that will trigger the finding of a modification?

A: Yes. EPA finds that the plant changes do constitute a modification under the NSPS, and the unit would become subject to NSPS subpart G. EPA also finds that the manner in which the Masar emission control system has been operated in the past and its improper maintenance makes it impossible to establish rational pre-change test conditions for purposes of determining whether the plant changes will cause an increase in NOX emission rate. In this case, emission factors are the most appropriate method to determine if an emission increase occurs, and the appropriate factors show that the increase in nitric acid production capacity will result in an emission increase. Thus, the plan will be subject to NSPS subpart G requirements following the proposed production rate increase.

Abstract for [0600017]

Q: Does 40 CFR part 60, subpart UUU, apply to a tile dryer at the Florim USA facility in Clarksville, Tennessee, that dries formed tiles by convection?

A: No. EPA finds that the tile dryer operates in a manner that is typical of tunnel dryers, which are exempt from NSPS subpart UUU.

Abstract for [0600018]

Q: Does 40 CFR part 60, subpart SS, apply to surface coating operations at the Nestaway facility in McKenzie, Tennessee, which fabricates and coats wire racks that are sold for use in new dishwashers of various manufacturers and as aftermarket replacements?

A: No. EPA finds that because the facility is not part of a large appliance assembly plant, NSPS subpart SS does not apply to its surface coating operation.

Abstract for [0600019]

Q: What requirements under 40 CFR part 60, subpart KKKK, would apply to a simple cycle combustion turbine to be operated at the Stock Island Power Plant in Key West, Florida, since the Florida Municipal Power Agency and GE Packaged Power entered into a contract for the fabrication and construction of the turbine on February 18, 2005, the final date by which a unit must have commenced construction to be treated as an existing unit not subject to NSPS subpart KKKK?

A: EPA finds that additional documentation must be submitted to make a determination. Without adequate documentation that the February 18, 2005 contract for the fabrication and construction of the turbine will result in a continuous program of construction, the combustion turbine in question would be considered subject to NSPS subpart KKKK requirements for new affected facilities. Refer to ADI determination 0600021.

Abstract for [0600020]

Q: Does EPA approve an exemption from opacity monitoring under 40 CFR part 60, subpart UUU, for a flash dryer that uses baghouses to control emissions as it dries product at the DuPont DeLisle titanium dioxide production facility in Pass Christian, Mississippi?

A: Yes. EPA finds that because the dryer has a particulate matter emission rate of less than 11 tons/year, an exemption from the opacity monitoring requirement of NSPS subpart UUU is appropriate.

Abstract for [0600021]

Q: What requirements under 40 CFR part 60, subpart KKKK, would apply to a simple cycle combustion turbine to be operated at the Stock Island Power Plant in Key West, Florida, since the Florida Municipal Power Agency and GE Packaged Power entered into a contract for the fabrication and construction of the turbine on February 18, 2005, the final date by which a unit must have commenced construction to be treated as an existing unit not subject to NSPS subpart KKKK. The facility has provided follow-up information in response to EPA's request for more information. Refer to ADI determination 0600019.

A: Based on the information submitted, EPA concludes that the combustion turbine, construction of which commenced on February 18, 2005, will not be subject to NSPS subpart KKKK, provided that a continuous program of construction is maintained and construction is completed within a reasonable time.

Abstract for [0600022]

Q: Does EPA allow the owners or operators of certain affected facilities under 40 CFR part 60, subpart Dc to submit reports annually instead of each six-month period, as required by 40 CFR 60.48(c)(j), if a facility is not required to obtain a Title V permit?

A: No. EPA finds that the reporting frequency in NSPS subpart Dc is intended to apply to owners and operators of affected facilities regardless of whether they are required to obtain a Title V permit.

Abstract for [0600023]

Q: Does 40 CFR part 60, subpart OOO, apply to air classifiers at nonmetallic mineral processing plants?

A: EPA finds that air classifiers are regulated by NSPS subpart OOO if they are part of a grinding mill. A grinding mill is the only affected facility under NSPS subpart OOO that includes air classifiers. If air classifiers are not part of a grinding mill, then they are not regulated by the standard since these are not identified as a separate category in the rule.

Abstract for [0600024]

Q: Does EPA find that 40 CFR part 60, subpart UUU, applies to the Line 2 ore dryer and product dryer at the DuPont DeLisle Plant in Pass Christian, Mississippi, where the facility uses a chlorination-oxidation process to manufacture titanium dioxide pigment?

A: Yes. EPA finds that although the chlorination-oxidation process is exempt from NSPS subpart UUU, the ore dryer and product dryer at the DuPont plant are not part of the chlorination-oxidation process. Thus, the dryers are subject to NSPS subpart UUU.

Abstract for [0600025]

Q: Does EPA find that the requirements of the 25 Pennsylvania (PA) Code Chapter 139 and the PA Department of Environmental Protection (PADEP) Continuous Source Monitoring Manual can be applied in lieu of the requirements in 40 CFR part 60, subparts A and D, and 40 CFR part 60.13, for sulfur dioxide (SO2) emissions for two power boilers at Weyerhaeuser's Johnsonburg Mill in Johnsonburg, Pennsylvania?

A: Yes. EPA finds that the requirements of 25 PA Code Chapter 139 and PADEP's Continuous Source Monitoring Manual can be applied in lieu of corresponding NSPS requirements in CFR part 60, subparts A and D and 40 CFR part 60.13, provided that SO2 emissions from the two power boilers remain less than 0.20 lbs/mmBtu and provided that, for validating hourly averages, the source computes one hour averages from 6 or more data points equally spaced over the one-hour period.

Abstract for [0600026]

Q: Does EPA approve EPA Method 9 visible emissions observations as an alternative to installing and certifying a continuous opacity monitoring system (COMS) when oil is burned in a boiler subject to 40 CFR part 60, subpart Dc, at the Penreco plant in Karns City, Pennsylvania?

A: Yes. EPA finds that the alternative opacity monitoring can be performed in lieu of installing and certifying a COMS. However, specific procedures outlined in EPA's response must be followed to ensure compliance with this approval under NSPS subpart Dc. The procedures are consistent with those that EPA has approved for other Subpart Dc boilers that burn gas as a primary fuel and that have an annual capacity factor of 10 percent or less for oil when used as a backup fuel.

Abstract for [0600027]

Q: Do the changes at the glass melting furnace, Furnace 52, cause an emissions increase at the Flat River Glass facility in Park Hills, Missouri, and if so, was the increase accomplished through a capital expenditure such that it would be considered a modification pursuant to 40 CFR part 60, subparts A and CC? Refer to ADI Control No. 0600028.

A: Yes. EPA finds that the changes at the furnace constitute a capital expenditure and therefore, the furnace has been modified for purposes of NSPS subparts A and CC. This determination provides further detail on the equipment considered in the calculations, the estimated cost of the changes, and the results of the calculation that show a capital expenditure.

Abstract for [0600028]

Q1: Do the physical or operational changes to Furnace 52 at the Flat River Glass facility in Park Hills, Missouri, result in an emissions increase pursuant to 40 CFR part 60, subparts A and C? Refer to ADI determination 0600027.

A1: Yes. Based on evaluation of the AP-42 factors, historical test data, and 40 CFR part 60, Appendix C calculations, EPA has determined that Furnace 52 has been modified since a kilogram per hour emission increase did occur as a result of the change, and that such modification was accomplished with a capital expenditure.

Q2: Was the emissions increase accomplished through a capital expenditure pursuant to 40 CFR 60.14(e) at the Flat River Glass facility in Park Hills, Missouri?

A2: Yes. EPA finds that there was a capital expenditure made for purposes of NSPS subpart CC. Based on the information submitted, EPA has determined that the cost of the changes made to the furnace exceeded 12 percent of the facility's basis, the threshold for a capital expenditure. Because the company did not include any cost data for the initial installation of the glass furnace, the existing facility's basis was calculated by using the current cost of a new glass furnace and back-calculating the cost to the year of installation.

Abstract for [0600029]

Q: Does EPA find that a source's intent in incurring costs of component replacement as a result of SIP control requirements should be a factor in determining whether a source has exceeded the 50 percent cost threshold of the NSPS reconstruction provisions under 40 CFR part 60, subpart A?

A: EPA finds that replacement costs may not be disregarded based on the owner's intent in incurring them. Creating an intent-based exemption for owners whose SIP-related expenditures pass the 50 percent threshold in Section 60.15 would be inconsistent with Section 111. However, EPA could conclude in the future that only certain facilities should be considered new once the 50 percent threshold for reconstruction is surpassed. Alternatively, EPA could determine that it is appropriate to exempt sources in individual cases or to exempt identifiable groups of sources where NSPS compliance is not “technologically or economically feasible,” which is consistent with section 111 of the Clean Air Act.

Abstract for [Z060003] and [M060035]

Q: Does EPA find that benzene emissions that occur from heat exchanger leaks at a facility, located in Texas and represented by Baker Botts, are to be included in the calculation of the Total Annual Benzene (TAB) quantity from facility waste water under the NESHAP for Benzene Waste Operations, 40 CFR part 61, subpart FF?

A: Yes. EPA finds that neither benzene emissions occurring from non-contact heat exchanger leaks into cooling tower water nor benzene quantities from “contact heat exchangers” qualify for the exemption or exclusion from the required benzene calculation (TAB) under the NESHAP for Benzene Waste Operations, 40 CFR part 61, subpart FF. Therefore, waste in the form of gases or vapors that is emitted from process fluids is required to be part of the calculation of the total annual benzene quantity in facility waste generation. This determination is based on the fact that the benzene emissions are directly generated by the respective process, and are neither the result of leakage nor of process offgas.

Abstract for [0600082]

Q: Does EPA approve a request for an alternative monitoring plan for a hydrogen production facility to allow grab sampling of refinery fuel gas combusted in the two reformer furnaces on a staggered schedule, as opposed to installing a continuous emissions monitoring system (CEMS), under 40 CFR part 60, subpart J, at the Air Products and Chemicals hydrogen production facility at the Exxon Mobil refinery in Joliet, Illinois?

A: Yes. EPA conditionally approves the request for an alternative monitoring plan under NSPS subpart J, provided the facility meets the conditions and terms of approval specified in EPA's response. This AMP approval is consistent with the EPA guidance entitled “Alternative Monitoring Plan for NSPS Subpart J Refinery Fuel Gas: Conditions for Approval of the Alternative Monitoring Plan for Miscellaneous Refinery Fuel Gas Streams.”

Dated: November 22, 2006.
Lisa C. Lund,
Acting Director, Office of Compliance.

[FR Doc. E6-20440 Filed 12-1-06; 8:45 am]

BILLING CODE 6560-50-P